DEPARTMENT OF THE INTERIOR

Fish and Wildlife Service

[FWS-R4-ES-2015-N214; FXES11120400000-167-FF04EF2000]

Endangered and Threatened Wildlife and Plants; Receipt of Application for an Incidental Take Permit; Availability of Low-Effect Habitat Conservation Plan and Associated Documents; Polk County, FL

AGENCY: Fish and Wildlife Service, Interior.

ACTION: Notice of availability; request for comment/information.

SUMMARY: We, the Fish and Wildlife Service (Service), announce the availability of an incidental take permit (ITP) and a Habitat Conservation Plan (HCP). Verano Land Investment, LLC (applicant) requests ITP TE67461B-0 under the Endangered Species Act of 1973, as amended (Act). The applicant anticipates taking about 4 acres of feeding, breeding, and sheltering habitat used by the sand skink (Neoseps reynoldsi) and blue-tailed mole skink (Eumeces egregius lividus) (skinks) incidental to land preparation and construction in Polk County, Florida. The applicant's HCP describes proposed minimization measures and mitigation measures to address the effects of development on the covered species.

DATES: We must receive your written comments on the ITP application and HCP on or before December 28, 2015.

ADDRESSES: See the SUPPLEMENTARY INFORMATION section below for information on how to submit your comments on the ITP application and HCP. You may obtain a copy of the ITP application and HCP by writing the South Florida Ecological Services Office, Attn: Permit number TE67461B-0, U.S. Fish and Wildlife Service, 1339 20th Street, Vero Beach, FL 32960-3559. In addition, we will make the ITP application and HCP available for public inspection by appointment during normal business hours at the above address.

FOR FURTHER INFORMATION CONTACT: Mr. Alfredo Begazo, South Florida Ecological Services Office (see ADDRESSES); telephone: 772-469 -4234.

SUPPLEMENTARY INFORMATION:

Submitting Comments

If you wish to comment on the ITP application or HCP, you may submit comments by any one of the following methods:

Email: alfredo_begazo@fws.gov. Use “Attn: Permit number “TE67461B-0” as your message subject line.

Fax: Alfredo Begazo, 772-469-4234, Attn.: Permit number “TE67461B-0.”

U.S. mail: Alfredo Begazo, South Florida Ecological Services Field Office, Attn: Permit number “TE67461B-0,” U.S. Fish and Wildlife Service, 1339 20th Street, Vero Beach, FL 32960-3559.

In-person drop-off: You may drop off comments or request information during regular business hours at the above office address.

Public Availability of Comments

Before including your address, phone number, email address, or other personal identifying information in your comments, you should be aware that your entire comment—including your personal identifying information—may be made publicly available at any time. While you can request in your comments that your personal identifying information be withheld from public review, we cannot guarantee that we will be able to do so.

Applicant's Proposed Project

We received an application from the applicant for an incidental take permit, along with a proposed habitat conservation plan. The applicant requests an ITP under section 10(a)(1)(B) of the Act (16 U.S.C. 1531 et seq.). If we approve the application, the applicant anticipates taking a total of approximately 4 acres of skink breeding, feeding, and sheltering habitat, incidental to land preparation and construction in Section 25, Township 25 South, Range 26 East, Polk County, Florida. The applicant currently has neither a time-frame for development, nor a specific site plan; however, development of this parcel would likely include construction of one or more structures, a parking area, and installation of associated utilities.

The applicant proposes to minimize impacts to skinks by preserving a total of 8 acres of skink-occupied habitat off site. The Service listed the skinks as threatened in 1987 (November 6, 1987; 52 FR 20715), effective December 7, 1987.

Our Preliminary Determination

The Service has made a preliminary determination that the applicant's project, including the mitigation measures, will individually and cumulatively have a minor or negligible effect on the species covered in the HCP. Therefore, issuance of the ITP is a “low-effect” action and qualifies as a categorical exclusion under the National Environmental Policy Act (NEPA) (40 CFR 1506.6), as provided by the Department of the Interior Manual (516 DM 2 Appendix 1 and 516 DM 6 Appendix 1). We base our preliminary determination that issuance of the ITP qualifies as a low-effect action on the following three criteria: (1) Implementation of the project would result in minor or negligible effects on federally listed, proposed, and candidate species and their habitats; (2) Implementation of the project would result in minor or negligible effects on other environmental values or resources; and (3) Impacts of the project, considered together with the impacts of other past, present, and reasonably foreseeable similarly situated projects, would not result, over time, in cumulative effects to environmental values or resources that would be considered significant. This preliminary determination may be revised based on our review of public comments that we receive in response to this notice.

Next Steps

The Service will evaluate the HCP and comments submitted thereon to determine whether the application meets the requirements of section 10(a) of the Act. The Service will also evaluate whether issuance of the section 10(a)(1)(B) ITP complies with section 7 of the Act by conducting an intra-Service section 7 consultation. The results of this consultation, in combination with the above findings, will be used in the final analysis to determine whether or not to issue the ITP. If it is determined that the requirements of the Act are met, the ITP will be issued.

Authority: We provide this notice under Section 10 of the Endangered Species Act (16 U.S.C. 1531 et seq.) and NEPA regulations (40 CFR 1506.6).

Dated: November 13, 2015.
Roxanna Hinzman,
Field Supervisor, South Florida Ecological Services Office.

[FR Doc. 2015-29995 Filed 11-24-15; 8:45 am]

BILLING CODE 4310-55-P